DEPARTMENT OF COMMERCE

International Trade Administration

[A-401-807]

Notice of Final Determination of Sales at Less Than Fair Value: Certain Cold-Rolled Carbon Steel Flat Products from Sweden

AGENCY: Import Administration, International Trade Administration, Department of Commerce.

EFFECTIVE DATE: July 19, 2002.

FOR FURTHER INFORMATION CONTACT: Jim Terpstra at (202) 482-3965 or Jim Neel at (202) 482-3146 AD/CVD Enforcement Office VI, Group II, Import Administration, Room 1870, International Trade Administration, U.S. Department of Commerce, 14th Street and Constitution Avenue, NW, Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2001).

Final Determination

We determine that certain cold-rolled carbon steel flat products (cold-rolled steel) from Sweden are being sold, or are likely to be sold, in the United States at less than fair value (LTFV), as provided in section 733 of the Act. The estimated margins of sales at LTFV are shown in the Continuation of Suspension of Liquidation section of this notice.

Background

On May 9, 2002, the Department published its preliminary determination in the above-captioned antidumping duty investigation. See Notice of Preliminary Determination of Sales at Less Than Fair Value: Certain Cold-Rolled Carbon Steel Flat Products From Sweden, 67 FR 31251 (May 9, 2002) (Preliminary Determination). See also Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (October 26, 2001) (Initiation Notice).

We gave interested parties an opportunity to comment on the preliminary determination. Bohler-Uddeholm was the only party to submit case briefs in this proceeding, and all of these pertained to the scope segment of the investigation. All timely scope-related comments are on the record, but will be addressed in the Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea (scope memorandum).

On June 28, 2002, Bohler-Uddeholm submitted a case brief on the record of the investigation, however this brief contained only scope comments. The deadline for submitting case briefs with respect to scope issues was June 20, 2002 and rebuttal comments on scope were due June 27, 2002. On July 3, the petitioners filed a request that the Department reject the June 28 Bohler-Uddeholm brief as untimely. Because Bohler-Uddeholm's June 28 submission contained only scope comments, we rejected the comments as untimely filed and did not retain it on the record of this proceeding. See the memo to the file regarding the Antidumping Duty Investigation of Certain Cold-Rolled Carbon Steel Flat Products from Sweden, dated July 2, 2002.

The Department did not receive any comments regarding our preliminary determination.

Selection of Respondents

Section 777A(c)(1) of the Act directs the Department to calculate individual dumping margins for each known exporter and producer of the subject merchandise. Where it is not practicable to examine all known producers/exporters of subject merchandise, section 777A(c)(2) of the Act permits the Department to investigate either (1) a sample of exporters, producers, or types of products that is statistically valid based on the information available at the time of selection, or (2) exporters and producers accounting for the largest volume of the subject merchandise that can reasonably be examined. Using company-specific export data for the period of investigation (POI), based on the Harmonized Tariff Schedules of the United States (HTSUS) number that corresponds to the subject merchandise, we obtained information from a variety of sources and found that sixteen producers/exporters may have exported cold-rolled steel to the United States during the POI. According to data on the record, SSAB Svenskt Stal AB (SSAB) represented a significantly large percent of the imports during the POI. Due to limited resources, we determined that we could only investigate this one largest producer/exporter. See Respondent Selection Memo.

We designated SSAB as the mandatory respondent and sent it the antidumping questionnaire. On December 7, 2001, SSAB stated that it did not intend to participate in this investigation. On December 7, 2001 we selected AB Sandvik Steel as a voluntary respondent pursuant to 19 CFR section 351.204(d)(2). See Preliminary Determination¹, 67 FR at 31253.

¹ After Sandvik informed the Department that it would not participate in this investigation, Sandvik requested the removal of its submissions from the record of this proceeding. In a letter to Sandvik dated April 25, 2002, the Department certified the removal and destruction of all proprietary copies of Sandvik's questionnaire responses. Additionally, the Department informed Sandvik that its withdrawal from the investigation would result in the use of facts available pursuant to section 776 of the Act.

Period of Investigation

The POI is July 1, 2000, through June 30, 2001. This period corresponds to the four most recent fiscal quarters prior to the month of the filing of the petition (i.e., September 2001).

Scope of Investigation

For purposes of this investigation, the products covered are certain cold-rolled (cold-reduced) flat-rolled carbon-quality steel products. A full description of the scope of this investigation is contained in the “Scope Appendix” attached to the Notice of Final Determination of Sales at Less Than Fair Value: Certain Cold-Rolled Carbon Steel Flat Products from Australia, published concurrently with this notice. For a complete discussion of the comments received on the Preliminary Scope Rulings, see the scope memorandum dated July 10, 2002, which is on file in the CRU.

Use of Facts Available (FA)

In the Preliminary Determination, the Department applied total adverse facts available to the sole mandatory respondent SSAB and the one voluntary respondent, Sandvik. Specifically, the Department assigned the sole mandatory respondent and the one voluntary respondent the rate of 40.54 percent, the rate derived from the petition. See Preliminary Determination, 67 FR at 31253-54. The Department also applied the petition margin of 40.54 as the “all others” rate, as a result of no other rate being available. The interested parties did not object to the use of adverse facts available, nor to the Department's choice of facts available. For this final determination, we are continuing to apply total adverse facts available to SSAB and Sandvik.

Continuation of Suspension of Liquidation

In accordance with section 735(c)(1)(B) of the Act, we are directing the Customs Service to continue to suspend the liquidation of all entries of certain cold-rolled steel from Sweden that are entered, or withdrawn from warehouse, for consumption on or after May 9, 2002, the date of publication of the Preliminary Determination in the Federal Register. See Notice of Preliminary Determination of Sales at Less Than Fair Value: Certain Cold-Rolled Carbon Steel Flat Products From Sweden, 67 FR 31251 (May 9, 2002). The Customs Service shall continue to require a cash deposit or the posting of a bond equal to the weighted-average dumping margin, as indicated in the chart below. These suspension of liquidation instructions will remain in effect until further notice.

Manufacturer/exporter | Margin (percent)
SSAB Svenskt Stal AB | 40.54
AB Sandvik Steel | 40.54
All Others | 40.54

ITC Notification

In accordance with section 735(d) of the Act, we have notified the International Trade Commission (ITC) of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing Customs officials to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

DATED: July 10, 2002.
Faryar Shirzad,
Assistant Secretary for Import Administration.

[FR Doc. 02-18297 Filed 7-18-02; 8:45 am]

BILLING CODE 3510-DS-S